DEPARTMENT OF LABOR

Employment and Training Administration

[TA-W-58,574]

Foamex LP Consumer Products Group Compton, California; Notice of Termination of Investigation

Pursuant to section 221 of the Trade Act of 1974, as amended, an investigation was initiated on January 4, 2006, in response to a worker petition filed by a company official on behalf of workers at Foamex LP, Consumer Products Group, Compton, California.

The petitioning group of workers is covered by an earlier petition (TA-W-58,639) filed on December 22, 2005 that is the subject of an ongoing investigation for which a determination has not yet been issued. Further investigation in this case would duplicate efforts and serve no purpose; therefore the investigation under this petition has been terminated.

Signed at Washington, DC, this 24th day of January, 2006.
Richard Church,
Certifying Officer, Division of Trade Adjustment Assistance.

[FR Doc. E6-1496 Filed 2-2-06; 8:45 am]

BILLING CODE 4510-30-P